DEPARTMENT OF THE INTERIOR

Bureau of Land Management

[LLMT-06000-01-L10200000-PG0000]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held August 10 and 11, 2010.

The meetings will be in the Winifred Community Hall (Main Street) in Winifred, Montana.

The August 10 meeting will begin at 9 a.m. with a 30-minute public comment period and will adjourn at 5:30 p.m.

The August 11 meeting will consist of a field visit for council members on the Upper Missouri National Wild and Scenic River.

SUPPLEMENTARY INFORMATION: This 15-member council advises the Secretary of the Interior on a variety of management issues associated with public land management in Montana. During these meetings the council will participate in/discuss/act upon:

RAC comments and discussions;

District Managers' and Oil and Gas Field Office updates;

An update on the HiLine resource management planning effort;

Presentations on BLM weed management efforts;

An update concerning a sage grouse study project;

A presentation about the Undaunted Stewardship Program;

A field visit to an Undaunted Stewardship project site;

A general review and discussion among RAC members; and

Administrative details (next meeting date, location, travel vouchers, etc.).

All RAC meetings are open to the public. The public may present written comments to the RAC. Each formal RAC meeting will also have time allocated for hearing public comments. Depending on the number of persons wishing to comment and time available, the time for individual oral comments may be limited.

FOR FURTHER INFORMATION CONTACT: Gary L. “Stan” Benes, District Manager, Central Montana District Office, Lewistown, MT 59457, (406) 538-1900.

Dated: July 15, 2010.
Gary L. “Stan” Benes,
District Manager.

[FR Doc. 2010-18064 Filed 7-22-10; 8:45 am]

BILLING CODE 4310-DN-P